DEPARTMENT OF COMMERCE

Foreign-Trade Zones Board

[Docket 15-2004]

Foreign-Trade Zone 14—Little Rock, Arkansas; Application for Subzone; L'Oreal USA, Inc.; (Cosmetic and Beauty Products); Little Rock, Arkansas

An application has been submitted to the Foreign-Trade Zones Board (the Board) by the Arkansas Department of Economic Development, grantee of FTZ 14, requesting special-purpose subzone status for the manufacturing and warehousing facilities of L'Oreal USA, Inc. (L'Oreal USA), located in Little Rock. The application was submitted pursuant to the provisions of the Foreign-Trade Zones Act, as amended (19 U.S.C. 81a-81u), and the regulations of the Board (15 CFR part 400). It was formally filed on April 12, 2004.

The proposed L'Oreal USA subzone has two sites with 921 employees in Pulaski County, Arkansas: Site 1 (100 acres)—located at 11500 Ray Wilson Drive, North Little Rock; and Site 2 (10.4 acres)—located at 6001 Lindsey Road, Little Rock.

The L'Oreal USA facilities will be used for the manufacturing and warehousing of cosmetic and beauty products including hair care, cosmetic, treatment products and fragrance products (HTS 3302.90, 3303.00, 3304.10, 3304.20, 3304.30, 3304.91, 3304.99, 3305.10, 3305.20, 3305.30, 3305.90, 3307.10, 3307.20, 3307.30, 3401.11, 3401.20 and 3401.30). Components and materials sourced from abroad represent some 27% of all parts consumed in manufacturing. The primary inverted tariff savings will come from the following components: plastic, glass, base metal and aluminum packaging components, pads for cosmetic application, carboxylic with additional O2 function, paraphenylenediamine, O2 function amino compounds, quaternary ammonium salts, acyclic amide, fatty substances, animal or vegetable polyethers, polyether nonionic surfactant, mixtures of amino acids, chemical preparations, mixtures of proteins and preservatives, polymers of vinyl esters, vinyl acetate polymers, polyamide, petroleum resins and thermosetting polymers (HTS 2918.90, 2921.51, 2922.50, 2923.90, 2924.19, 3402.13, 3824.90, 3905.19, 3908.10, 3911.90, 3923.10, 3923.30, 3923.50, 3923.90, 3926.90, 7010.90, 7010.94, 7020.00, 7117.19, 7612.10, 7612.90 and 9616.20, duty rate ranges from 2.4 to 11%). The application also indicates that the company may import under FTZ procedures other materials used in the production of cosmetic and beauty products falling under the following HTS, as further described in the application: HTS 0408, 0409, 1108, 1301, 1302, 1504, 1505, 1511, 1515, 1516, 1521, 1603, 1702.90.90, 2009, 2106, 2507, 2520, 2525, 2526, 2710, 2712, 2811, 2815, 2817, 2818, 2821, 2823, 2827, 2835, 2836, 2901, 2904, 2906, 2907, 2909, 2914, 2915, 2916, 2918, 2919, 2921, 2922, 2923, 2924, 2925, 2930, 2932, 2933, 2934, 2936, 2938, 3301, 3302, 3304, 3402, 3404, 3501, 3504, 3507, 3806, 3808, 3823, 3824, 3901, 3902, 3903, 3904, 3905, 3906, 3907, 3908, 3910, 3911, 3912, 3913, 3923, 4701, 4819, 4821, 8214, 8424, 9616 (duty rate ranges from duty-free to 7.4%). In addition, the application indicates that they may import coloring matter, but that any products imported under Chapter 32 of the HTS would be admitted in privileged-foreign status.

FTZ procedures would exempt L'Oreal USA from Customs duty payments on the foreign components used in export production. Some 5 percent of the plant's shipments are exported. On its domestic sales, L'Oreal USA would be able to choose the duty rates during Customs entry procedures that apply to cosmetic and beauty products (duty-free to 5.8%) for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230. The closing period for their receipt is June 18, 2004. Rebuttal comments in response to material submitted during the foregoing period may be submitted during the subsequent 15-day period (to July 6, 2004).

A copy of the application and accompanying exhibits will be available for public inspection at the Office of the Foreign-Trade Zones Board's Executive Secretary at the first address listed above, and at the U.S. Department of Commerce Export Assistance Center, 425 West Capitol Avenue, Suite 700, Little Rock, Arkansas 72201.

Dated: April 12, 2004.
Dennis Puccinelli,
Executive Secretary.

[FR Doc. 04-8805 Filed 4-16-04; 8:45 am]

BILLING CODE 3510-DS-P